NATIONAL AERONAUTICS AND SPACE ADMINISTRATION

[Notice (04-040)]

President's Commission on Implementation of United States Space Exploration Policy; Meeting

AGENCY: National Aeronautics and Space Administration (NASA).

ACTION: Notice of meeting.

SUMMARY: In accordance with the Federal Advisory Committee Act, Public Law 92-463, as amended, the National Aeronautics and Space Administration announces a meeting of the President's Commission on Implementation of United States Space Exploration Policy.

DATES: Wednesday, March 24, 2004, 1 p.m. to 4 p.m. and Thursday, March 25, 2004, 9 a.m. to 4:30 p.m.

ADDRESSES: Georgia Centers for Advanced Telecommunications Technology, Georgia Institute of Technology, 250 14th Street, NW., Atlanta, GA 30318.

FOR FURTHER INFORMATION CONTACT: Mr. Steven Schmidt, Office of the Administrator, National Aeronautics and Space Administration, Washington, DC, (202) 358-1808.

SUPPLEMENTARY INFORMATION: The meeting will be open to the public up to the seating capacity of the room. The agenda for the meeting is as follows:

—Competitiveness and Prosperity

—Science and Technology

—Management and Sustainability

—Education and Youth

It is not possible to accommodate the full notice period because of the short time frame in which the Commission is expected to finish its work and write its report. Visitors will be requested to sign a visitor's register.

Al Condes,
Acting Assistant Administrator for External Relations, National Aeronautics and Space Administration.

[FR Doc. 04-5164 Filed 3-5-04; 8:45 am]

BILLING CODE 7510-01-P